DEPARTMENT OF COMMERCE

International Trade Administration

[C-533-931]

Certain High Chrome Cast Iron Grinding Media From India: Postponement of Preliminary Determination in the Countervailing Duty Investigation

AGENCY: Enforcement and Compliance, International Trade Administration, Department of Commerce.

DATES: Applicable July 10, 2024.

FOR FURTHER INFORMATION CONTACT: Gorden Struck or David Crespo, Office II, AD/CVD Operations, Enforcement and Compliance, International Trade Administration, U.S. Department of Commerce, 1401 Constitution Avenue NW, Washington, DC 20230, telephone: (202) 482-8151 or (202) 482-3693, respectively.

SUPPLEMENTARY INFORMATION:

Background

On May 16, 2024, the U.S. Department of Commerce (Commerce) initiated a countervailing duty (CVD) investigation of imports of certain high chrome cast iron grinding media (grinding media) from India.¹ Currently, the preliminary determination is due no later than July 22, 2024.

¹ See Certain High Chrome Cast Iron Grinding Media from India: Initiation of Countervailing Duty Investigation, 89 FR 45640 (May 23, 2024).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for an extension of the period within which the determination must be made; or (B) Commerce concludes that the parties concerned are cooperating, that the investigation is extraordinarily complicated, and that additional time is necessary to make the preliminary determination. Under 19 CFR 351.205(e), the petitioner must submit a request for postponement 25 days or more before the scheduled date of the preliminary determination and must state the reasons for the request. Commerce will grant the request unless it finds compelling reasons to deny the request.

On June 26, 2024, the petitioner ² submitted a timely request to postpone the preliminary determination in the investigation.³ The petitioner stated that postponement of the preliminary determination is necessary because the current schedule does not provide Commerce with adequate time to fully analyze the forthcoming questionnaire responses of the mandatory respondents and issue supplemental questionnaires, as necessary.⁴

² The petitioner is Magotteaux Inc.

³ See Petitioner's Letter, “Request for Postponement of the Preliminary Determination,” dated June 26, 2024.

⁴ Id.

In accordance with 19 CFR 351.205(e), the petitioner submitted its request for postponement of the preliminary determination in this investigation 25 days or more before the scheduled date of the preliminary determination and stated the reasons for its request. Commerce finds no compelling reason to deny its request. Therefore, in accordance with section 703(c)(1)(A) of the Act, Commerce is postponing the deadline for the preliminary determination in this investigation to no later than 130 days after the date on which it initiated this investigation, i.e., September 23, 2024. Pursuant to section 705(a)(1) of the Act and 19 CFR 351.210(b)(1), the deadline for the final determination in this investigation will continue to be 75 days after the date of the preliminary determination.

This notice is issued and published pursuant to section 703(c)(2) of the Act and 19 CFR 351.205(f)(1).

Dated: July 3, 2024.
Ryan Majerus,
Deputy Assistant Secretary for Policy and Negotiations, performing the non-exclusive functions and duties of the Assistant Secretary for Enforcement and Compliance.

[FR Doc. 2024-15103 Filed 7-9-24; 8:45 am]

BILLING CODE 3510-DS-P